DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Acting Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on July 1, 2005, through September 30, 2005.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading For Further Information Contact), with a copy to HRSA addressed to Acting Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the program.

List of Petitions

1. Julie A. Martin on behalf of Samantha N. Martin, Thornton, Colorado, Court of Federal Claims Number 05-0712V.

2. Mercedes Faunde-Omaechevarria and Josu Omaechevarria on behalf of Ander Omaechevarria, Somers Point, New Jersey, Court of Federal Claims Number 05-0713V.

3. Carol A. Hoshim-Fowler on behalf of Parker L. Hoshim-Noel, Langley, Washington Court of Federal Claims Number 05-0714V.

4. Kristie and Joel Beverage on behalf of James Beverage, Portland, Oregon, Court of Federal Claims Number 05-0716V.

5. Christel and Chad King on behalf of Levi King, Windham, Maine, Court of Federal Claims Number 05-0717V.

6. Beth and Kevin Hynes on behalf of Killian J. Hynes, Naperville, Illinois, Court of Federal Claims Number 05-0718V.

7. Roberto Garcia, Norco, California, Court of Federal Claims Number 05-0720V.

8. Thomas Cook on behalf of Krista Lauder, Deceased, Pittsburgh, Pennsylvania, Court of Federal Claims Number 05-0721V.

9. Krista Sawyers on behalf of Sarah Sawyers, Woodbine, Kentucky, Court of Federal Claims Number 05-0723V.

10. John Schardein on behalf of John Brayden Schardein, Conroe, Texas, Court of Federal Claims Number 05-0724V.

11. Gayle George on behalf of Zachary Allen George, Jacksonville, Florida, Court of Federal Claims Number 05-0727V.

12. Maureen Scarboro on behalf of Grant Thomas Scarboro, Forest Hill, Maryland, Court of Federal Claims Number 05-0728V.

13. Patricia Rombalski on behalf of Kasey Bailey, Midland, Michigan, Court of Federal Claims Number 05-0729V.

14. Edward F. Petka, Jr. on behalf of Alexis G. Petka, Wichita, Kansas, Court of Federal Claims Number 05-0730V.

15. Abby M. Stern, North Andover, Massachusetts, Court of Federal Claims Number 05-0733V.

16. Cristina Mallard-Bru on behalf of Roman Bru, West Bloomfield, Michigan, Court of Federal Claims Number 05-0735V.

17. Susan Lee on behalf of Geun Young Lee, Doylestown, Pennsylvania, Court of Federal Claims Number 05-0739V.

18. Lawrence Brodeur on behalf of Harrison Gail Brodeur, Lake Zurich, Illinois, Court of Federal Claims Number 05-0740V.

19. Theresa and Richard Curley on behalf of Thomas Curley, Lake Success, New York, Court of Federal Claims Number 05-0744V.

20. Ghulam Laljiani on behalf of Mohammed Laljiani, Lawrenceville, Georgia, Court of Federal Claims Number 05-0745V.

21. Mark W. Chimiak on behalf of Annalise Chimiak, Jupiter, Florida, Court of Federal Claims Number 05-0747V.

22. Clayborne A. McCorkle on behalf of Clayborne A. McCorkle, Jr., Durham, North Carolina, Court of Federal Claims Number 05-0749V.

23. Kamlawattie Persaud and Jason Agresti on behalf of Jayashree Agresti, Flushing, New York, Court of Federal Claims Number 05-0752V.

24. Maryanne Regan on behalf of Jake Hunt, Bellevue, Washington, Court of Federal Claims Number 05-0753V.

25. Tammy and Evan Starke on behalf of Aidan Starke, Webster, Texas, Court of Federal Claims Number 05-0754V.

26. Holly and Mark Blackburn on behalf of Mitchell Blackburn, Arlington, Texas, Court of Federal Claims Number 05-0756V.

27. Lori Reed on behalf of Ryan Reed, Fort Worth, Texas, Court of Federal Claims Number 05-0757V.

28. Mary Ann Sherman, National City, California, Court of Federal Claims Number 05-0761V.

29. Lynne Rossler Grossman, Boca Raton, Florida, Court of Federal Claims Number 05-0762V.

30. Rebecca Hethcoat on behalf of Austin Hethcoat, Wheaton, Illinois, Court of Federal Claims Number 05-0763V.

31. Vanessa and Shahab Navab on behalf of Shayan Navab, Lake Success, New York, Court of Federal Claims Number 05-0764V.

32. Shannon Young on behalf of Giancarlo de Lucca Young, Lake Success, New York, Court of Federal Claims Number 05-0765V.

33. Amy Jabs Greenwaldt, Waukesha, Wisconsin, Court of Federal Claims Number 05-0766V.

34. Leah Harrington on behalf of Myles Harrington, Jeffersonville, Vermont, Court of Federal Claims Number 05-0771V.

35. Cynthia Byrd on behalf of Kristopher Byrd, Somers Point, New Jersey, Court of Federal Claims Number 05-0774V.

36. Jennifer Horner on behalf of Joel Horner, Newburgh, Illinois, Court of Federal Claims Number 05-0777V.

37. Todd M. Smith on behalf of Todd M. Smith, II, Leesburg, Georgia, Court of Federal Claims Number 05-0778V.

38. David Sanchez, Albequerque, New Mexico, Court of Federal Claims Number 05-0782V.

39. Gerald Ross on behalf of Jonathan Ross, Durham, North Carolina, Court of Federal Claims Number 05-0783V.

40. Gerald Ross on behalf of Jaden Ross, Durham, North Carolina, Court of Federal Claims Number 05-0784V.

41. Nathalie Russo, Astoria, New York, Court of Federal Claims Number 05-0793V.

42. John Mealey on behalf of Liam Mealey, Lynnfield, Massachusetts, Court of Federal Claims Number 05-0795V.

43. Marie Richard-White and John White on behalf of Alaska White, La Mesa, California, Court of Federal Claims Number 05-0796V.

44. Marcy and Patrick Calcagno on behalf of Patrick Ryan Calcagno, Somers Point, New Jersey, Court of Federal Claims Number 05-0797V.

45. Donna L. Hurd on behalf of Dustin Riley-Max Hurd, Tazewell, Virginia, Court of Federal Claims Number 05-0798V.

46. Todd Hall on behalf of Gayge Hall, Leesburg, Georgia, Court of Federal Claims Number 05-0799V.

47. Tammie and Joseph Gibson on behalf of Joseph (Joey) Gibson, V., Houston, Texas, Court of Federal Claims Number 05-0801V.

48. Christina Nicole and John David Fields on behalf of Jayla Nicole Fields, Arlington, Texas, Court of Federal Claims Number 05-0803V.

49. Michelle-Lynn Stewart on behalf of John O'Neil Hamilton, Philadelphia, Pennsylvania, Court of Federal Claims Number 05-0831V.

50. Michelle-Lynn Stewart on behalf of Benjamin Thomas Hamilton, Philadelphia, Pennsylvania, Court of Federal Claims Number 05-0832V.

51. Debra and Christopher Yoder on behalf of Evan Yoder, Somers Point, New Jersey, Court of Federal Claims Number 05-0833V.

52. Darla Ibarrola on behalf of Israel Ibarrola, South Houston, Texas, Court of Federal Claims Number 05-0834V.

53. Melissa Stuart on behalf of Aubrey Stuart, Edmond, Oklahoma, Court of Federal Claims Number 05-0835V.

54. Kathleen Grey, Ft. Myers, Florida, Court of Federal Claims Number 05-0836V.

55. Tiare Lindahl on behalf of Trinton (Dakota) Leigh Armstrong, Newport Beach, California, Court of Federal Claims Number 05-0857V.

56. Tiare Lindahl on behalf of Cody Leigh Armstrong, Newport Beach, California, Court of Federal Claims Number 05-0858V.

57. Alexandra Soloman on behalf of Brian Soloman, Boston, Massachusetts, Court of Federal Claims Number 05-0859V.

58. Danielle Dorma-Chapa and Joseph Chapa on behalf of Ian Chapa, Boston, Massachusetts, Court of Federal Claims Number 05-0860V.

59. Anita and Michael Byrd on behalf of Matthew Byrd, Boston, Massachusetts, Court of Federal Claims Number 05-0861V.

60. Denise and Roberto Torricella Jr. on behalf of Zachary Matthew Torricella, Miami, Florida, Court of Federal Claims Number 05-0863V.

61. Sharon and Bernard Mohan on behalf of Nicholas Mohan, Pittsburgh, Pennsylvania, Court of Federal Claims Number 05-0865V.

62. Julie and John Ignagni on behalf of Chaz Ignagni, Sarasota, Florida, Court of Federal Claims Number 05-0868V.

63. Misty and John Pat White II on behalf of Jayden Presley White, Somers Point, New Jersey, Court of Federal Claims Number 05-0869V.

64. Heather Rice on behalf of Grant Rice, Houston, Texas, Court of Federal Claims Number 05-0871V.

65. Sandra and Robert Waters on behalf of Candace Waters, Park Ridge, Illinois, Court of Federal Claims Number 05-0872V.

66. Lorri and Daniel Unumb on behalf of Ryan Reed Unumb, Mt. Pleasant, South Carolina, Court of Federal Claims Number 05-0873V.

67. Cheryl and John Viserto on behalf of Alex John Viserto, Lake Success, New York, Court of Federal Claims Number 05-0875V.

68. Linda and John Murray Jr. on behalf of John F. Murray, III, Boston, Massachusetts, Court of Federal Claims Number 05-0876V.

69. Stephanie and Clifton Miller on behalf of Alexandra Miller, Boston, Massachusetts, Court of Federal Claims Number 05-0877V.

70. Olivia Wolfe on behalf of Joseph Wolfe, Yorba Linda, California, Court of Federal Claims Number 05-0878V.

71. Diane Cordick, Yuma, Arizona, Court of Federal Claims Number 05-0879V.

72. Elizabeth Carrier, Laconia, New Hampshire, Court of Federal Claims Number 05-0883V.

73. Lynnette Lee Lowe, Old Township, Pennsylvania, Court of Federal Claims Number 05-0884V.

74. Yu-Shuang and Dieter Paul on behalf of Ashley Jean Paul, Anaheim, California, Court of Federal Claims Number 05-0886V.

75. Beverly Farrow on behalf of Chadwick Omar Farrow, Cochran, Georgia, Court of Federal Claims Number 05-0889V.

76. Devora James on behalf of Michael James, Philadelphia, Pennsylvania, Court of Federal Claims Number 05-0890V.

77. Nicole Rahn on behalf of Mary Grace Rahn, Savannah, Georgia, Court of Federal Claims Number 05-0892V.

78. Patrick T. Heese, Aurora, Illinois, Court of Federal Claims Number 05-0893V.

79. Amy Sealover on behalf of Hayden Sealover, Red Lion, Pennsylvania, Court of Federal Claims Number 05-0900V.

80. Ronald Bass, Green Brook, New Jersey, Court of Federal Claims Number 05-0901V.

81. Rhonda Richards, Cambridge, Massachusetts, Court of Federal Claims Number 05-0903V.

82. Tyran Duncan, Fort Benning, Georgia, Court of Federal Claims Number 05-0905V.

83. Tara Lee Cantatore on behalf of Joseph Tyler Cantatore, Blauvelt, New York, Court of Federal Claims Number 05-0910V.

84. Christopher George Wiley, Baton Rouge, Louisiana, Court of Federal Claims Number 05-0911V.

85. Megan and Richard Lee on behalf of Patrick Richard Lee, Jacksonville, Florida, Court of Federal Claims Number 05-0916V.

86. Jennifer Elrod on behalf of Jordan Elrod, Abilene, Texas, Court of Federal Claims Number 05-0917V.

87. Jennifer Elrod on behalf of Dylan Elrod, Abilene, Texas, Court of Federal Claims Number 05-0918V.

88. Beti Argun on behalf of Deniz Argun, Austin, Texas, Court of Federal Claims Number 05-0919V.

89. Devora James on behalf of Daniel R. James, Philadelphia, Pennsylvania, Court of Federal Claims Number 05-0920V.

90. Tonya Jester Coleman on behalf of Jayda Jester, Deceased, Ashdown, Arkansas, Court of Federal Claims Number 05-0925V.

91. Linda Josephine Hogan-Estrada on behalf of Miles Knight Estrada, San Clemente, California, Court of Federal Claims Number 05-0928V.

92. Steven Stocker on behalf of Andrew Stocker, Franklin, Tennessee, Court of Federal Claims Number 05-0935V.

93. Wendy Harnisher on behalf of Logan Harnisher, Boston, Massachusetts, Court of Federal Claims Number 05-0936V.

94. Maureen and Richard Femenella on behalf of Joseph Femenella, Boston, Massachusetts, Court of Federal Claims Number 05-0937V.

95. Lidia Hernandez and Victor Dengler on behalf of Mayra Dengler, Tucson, Arizona, Court of Federal Claims Number 05-0938V.

96. Debra and Dan Matthews on behalf of Ryan Matthews, Rockford, Illinois, Court of Federal Claims Number 05-0939V.

97. Jacqueline P. Smith on behalf of Jesse Smith, Baltimore, Maryland, Court of Federal Claims Number 05-0940V.

98. Melinda Simon on behalf of Devin Simon, Deceased, Boston, Massachusetts, Court of Federal Claims Number 05-0941V.

99. Kimberly A. Ward on behalf of Dayton Matthew Ward, Somers Point, New Jersey, Court of Federal Claims Number 05-0942V.

100. Ann Chambers on behalf of Patrick Chambers, Baltimore, Maryland, Court of Federal Claims Number 05-0943V.

101. Jenny Davidson, Ponca City, Oklahoma, Court of Federal Claims Number 05-0944V.

102. Jami and Donald Slater on behalf of John Edward Slater, Lake Success, New York, Court of Federal Claims Number 05-0947V.

103. Kristen and Robert Honer on behalf of Adam Honer, Granite Bay, California, Court of Federal Claims Number 05-0948V.

104. Amy and Richard Padow on behalf of Joseph Daniel Padow, Salisbury, North Carolina, Court of Federal Claims Number 05-0949V.

105. Renelle and Edward Glover on behalf of Deylan Glover, Baltimore, Maryland, Court of Federal Claims Number 05-0952V.

106. Dana Lynne and Vance Trent Wilson on behalf of Vance Ryan Wilson, Van Nuys, California, Court of Federal Claims Number 05-0953V.

107. Eileen M. Lambiasi on behalf of Kaila Kathleen Lambiasi, Lake Success, New York, Court of Federal Claims Number 05-0958V.

108. Eileen M. Lambiasi on behalf of Lauren Lambiasi, Lake Success, New York, Court of Federal Claims Number 05-0959V.

109. Judith Shanahan on behalf of Sarah Nelms, Charlotte, North Carolina Court of Federal Claims Number 05-0962V.

110. Melissa Sullivan on behalf of Sean Sullivan, Suffield, Connecticut, Court of Federal Claims Number 05-0964V.

111. Heather Mary Lesly on behalf of Nearia Dean Lesly-Gibson, Myrtle Creek, Oregon, Court of Federal Claims Number 05-0967V.

112. Dana and Vance Wilson on behalf of Heather M. Wilson, Garden Grove, California, Court of Federal Claims Number 05-0968V.

113. Laurence Brownstein on behalf of Kai Jacob Brownstein, Petaluma, California, Court of Federal Claims Number 05-0970V.

114. Angela Steffke on behalf of Owen Steffke, Deceased, Indianapolis, Indiana, Court of Federal Claims Number 05-0972V.

115. Melinda and Bernard Gormley on behalf of Brenna Gormley, Boston, Massachusetts, Court of Federal Claims Number 05-0973V.

116. Julie and Brion McAlarney on behalf of Matthew McAlarney, Boston, Massachusetts, Court of Federal Claims Number 05-0974V.

117. Christen and William Walsh on behalf of Shane Walsh, Boston, Massachusetts, Court of Federal Claims Number 05-0975V.

118. Kimberly Casino-Kobus and Harry Kobus on behalf of Hunter Kobus, Boston, Massachusetts, Court of Federal Claims Number 05-0976V.

119. Karen and Brian Fialkoff on behalf of Spencer Fialkoff, Boston, Massachusetts, Court of Federal Claims Number 05-0977V.

120. Angela Barker on behalf of Adam Barker, San Anselmo, California, Court of Federal Claims Number 05-0979V.

121. Kathleen and Michael McAndrews on behalf of Shawn Joseph McAndrews, Yardley, Pennsylvania, Court of Federal Claims Number 05-0980V.

122. Barbara Gallagher on behalf of Brian Gallagher, Philadelphia, Pennsylvania, Court of Federal Claims Number 05-0985V.

123. Sue Ellen and Anthony Akers on behalf of Tyler Akers, Pearl, Mississippi, Court of Federal Claims Number 05-0986V.

124. Dana and Vance Wilson on behalf of Vance R. Wilson, Garden Grove, California, Court of Federal Claims Number 05-0987V.

125. Dale Rydberg, Port St. Lucie, Florida, Court of Federal Claims Number 05-0988V.

126. Daphne Hill, Cheraw, South Carolina, Court of Federal Claims Number 05-0989V.

127. Mila and Brian DeWitt on behalf of Anna-Claire DeWitt, Napa, California, Court of Federal Claims Number 05-0995V.

128. Paula and David Trifiletti on behalf of Patrick John Trifiletti, Philadelphia, Pennsylvania, Court of Federal Claims Number 05-0996V.

129. Margaret and Michael Dixon on behalf of Michael Christopher Dixon, Lake Success, New York, Court of Federal Claims Number 05-0997V.

130. Christina and Peter Giasemis on behalf of Vasilios Giasemis, Lake Success, New York, Court of Federal Claims Number 05-0998V.

131. Melissa Cloer, Columbia, Missouri, Court of Federal Claims Number 05-1002V.

132. Tonya and Rodney Ankeney on behalf of Audra Ankeney, Huber Heights, Ohio, Court of Federal Claims Number 05-1003V.

133. Crystal Chanel Hinnant on behalf of Cionni Alicia Vann, Deceased, Philadelphia, Pennsylvania, Court of Federal Claims Number 05-1007V.

134. Maria and Joseph Grande on behalf of Anthony Grande, Lake Success, New York, Court of Federal Claims Number 05-1008V.

135. Mariette and Edward Maleszyk on behalf of Stephanie Maleszyk, Deceased, Detroit, Michigan, Court of Federal Claims Number 05-1009V.

136. Robert Butler, Somers Point, New Jersey, Court of Federal Claims Number 05-1010V.

137. William D. Mahan, Jr. on behalf of William P. Mahan, Mount Gretna, Pennsylvania, Court of Federal Claims Number 05-1012V.

138. Barbara Fernandez on behalf of Gabriel Parker Callaway, Austin, Texas, Court of Federal Claims Number 05-1013V.

139. Tammy and David Conner on behalf of Camden Conner, Boston, Massachusetts, Court of Federal Claims Number 05-1017V.

140. Kelli Cunningham on behalf of John Cunningham, Boston, Massachusetts, Court of Federal Claims Number 05-1018V.

141. Kathleen and Sean Van Uum on behalf of Devon Van Uum, Cleveland, Ohio, Court of Federal Claims Number 05-1024V.

142. Virginia Moore on behalf of Roy Moore, Chula Vista, California, Court of Federal Claims Number 05-1025V.

143. Brian Yoder, Summit, New Jersey, Court of Federal Claims Number 05-1031V.

144. Mary Ann Egan on behalf of Bridget Gum, Farmington, New Jersey, Court of Federal Claims Number 05-1032V.

145. Jennifer Savchuk on behalf of Madison Welch, Somers Point, New Jersey, Court of Federal Claims Number 05-1033V.

146. Tonya Raye Hetrick on behalf of Brandon Kane Hetrick, Lexington, North Carolina, Court of Federal Claims Number 05-1034V.

147. Mary Filipello on behalf of Ginovanni Filipello, Palos Heights, Illinois, Court of Federal Claims Number 05-1035V.

148. Jean and Clifford Meijer on behalf of Matthew Meijer, Boston, Massachusetts, Court of Federal Claims Number 05-1036V.

149. Buffy Woodbury on behalf of Jaycee Woodburry, Boston, Massachusetts, Court of Federal Claims Number 05-1037V.

150. Mary and Dennis Bitz on behalf of John Bitz, Boston, Massachusetts, Court of Federal Claims Number 05-1038V.

151. Lori and Bryon Hamlett on behalf of Joshua Hamlett, Boston, Massachusetts, Court of Federal Claims Number 05-1039V.

152. Raymond Ostrander, Easton, Pennsylvania, Court of Federal Claims Number 05-1046V.

153. Charlene Odom on behalf of Charday Odom, Somers Point, New Jersey, Court of Federal Claims Number 05-1047V.

154. Maria Elena and Rene Ortiz on behalf of Alejandra Ortiz, Albuquerque, New Mexico, Court of Federal Claims Number 05-1052V.

155. Tawana and Anthony Collins on behalf of Anthony Collins, Birmingham, Alabama, Court of Federal Claims Number 05-1055V.

Dated: December 1, 2005.
Elizabeth M. Duke,
Administrator.

[FR Doc. E5-7063 Filed 12-7-05; 8:45 am]

BILLING CODE 4165-15-P